DEPARTMENT OF COMMERCE

International Trade Administration

Textile and Apparel Products from Vietnam: Import Monitoring Program; Request for Comments

AGENCY: Import Administration, International Trade Administration, Department of Commerce.

ACTION: Request for Public Comment - Import Monitoring of Textile and Apparel Products from Vietnam.

SUMMARY: As a follow-up to its December 4, 2006 request for public comment, the Department of Commerce (the Department) is providing an additional opportunity for the public to comment on the development and implementation of a monitoring program covering imports of textile and apparel products from Vietnam. This monitoring program will remain in place for the duration of this Administration. To help the Department implement the program and, at the same time, be advised of the concerns of all interested stakeholders, the Department is inviting the public to provide further input on the monitoring program and identify issues or considerations that submitters believe are deserving of the Department's attention as the program proceeds. Responses to comments already received by the Department as part of its December 4, 2006 request are also welcome.

DATES: To be most useful, the Department requests that comments be submitted by close of business, January 31, 2007. However, the Department will continue to welcome and solicit additional views and input from all parties on an ongoing basis.

ADDRESSES: Comments may be submitted in writing or electronically. Persons wishing to comment in writing should file, by the date specified above, a signed original and four copies of each set of comments. Written comments should be addressed to David M. Spooner, Assistant Secretary for Import Administration, Room 1870, Department of Commerce, 14th Street and Constitution Ave., NW, Washington, DC 20230. Electronic comments should be submitted to vietnam-texapp-monitor-FRcomments@mail.doc.gov. Comments should be limited to 25 pages or less.

All comments will be available for public inspection at Import Administration's Central Records Unit, Room B-099, between the hours of 8:30 a.m. and 5 p.m. on business days. The Department will not accept nor consider comments accompanied by a request that a part or all of the material be treated confidentially because of its business proprietary nature or for any other reason. In addition, all comments will be made available to the public in Portable Document Format (PDF) on the Internet at the Import Administration Web site at the following address: http://ia.ita.doc.gov. To the extent possible, all comments will be posted within 48 hours. Any questions concerning file formatting, document conversion, access on the Internet, or other electronic filing issues should be addressed to Andrew Lee Beller, Import Administration Webmaster, at (202) 482-0866, e-mail address: webmaster-support@ita.doc.gov.

FOR FURTHER INFORMATION CONTACT: Kelly Parkhill at (202) 482-3791.

SUPPLEMENTARY INFORMATION: The Department is instituting an import monitoring program for textile and apparel products from Vietnam. The Department currently monitors imports of textile and apparel products from Vietnam and all other textile and apparel producing countries as part of the regular monitoring and reporting conducted by Import Administration's Office of Textiles and Apparel. This program, which is not meant to inhibit legitimate trade, will supplement those monitoring activities already undertaken by that office and help ensure compliance with the trade remedy laws.

Implementation of the program began on January 11, 2007 when Vietnam became a Member of the World Trade Organization (WTO) and will cease at the end of the current Administration. Five product groups - trousers, shirts, underwear, swimwear and sweaters - have been identified as being of special sensitivity for monitoring purposes and specific products from these broad categories will constitute the initial focus of Import Administration's monitoring efforts. Outreach to interested parties, including domestic textile and apparel producers, workers, retailers, importers and the Government of Vietnam, will continue throughout the monitoring process and products may be added or removed from monitoring as appropriate.

OUTREACH PROCESS: As noted, the outreach process will be ongoing and continue throughout the life of the program. All parties are welcome to meet with or otherwise provide input to the Department There will be no restrictions on access to the Department or preconditions for comment on the monitoring program. In addition, the Department will establish an electronic hotline - vietnam-texapp-monitor-hotline@mail.doc.gov - to make it easier for parties to provide input, raise questions or submit suggestions to the Department about the program. The Department fully anticipates that input from this outreach process will lead to improvements in the monitoring program, as the need arises.

The Department intends to hold a public hearing on the program in Washington, D.C. within the next three months. A separate notice in the Federal Register announcing the hearing and providing guidance on participation will be issued no later than 30 days in advance of the hearing. The Department is also considering the possibility of holding a series of field hearings. If held, the Department intends to ensure that the locations of these hearings will be convenient to the broad array of parties that have expressed interest in the monitoring program including domestic textile and apparel producers, workers, retailers and importers. The Department is also examining ways in which access to the hearing(s) may be extended to those unable to attend in person.

The Department also intends to develop an email notification system to provide parties notice of upcoming developments. Those interested in being included in the email notification system should provide the Department with their email address. Email addresses may be submitted in writing or through the email hotline - vietnam-texapp-monitor-hotline@mail.doc.gov.

PRODUCT COVERAGE: The Department intends to monitor five product groups - trousers, shirts, underwear, swimwear and sweaters. However, the Department recognizes that these five product groups are too broad for effective monitoring. Within these five groups, the Department intends to focus on those traditional three-digit textile and apparel categories of greatest significance based on trade trends, composition of the U.S. industry and input from parties, as appropriate. In addition to gathering aggregate value data for each of the monitored three-digit categories, the Department intends to gather volume, value and average unit value data for selected products within those categories that will be collected and examined on a 10-digit Harmonized Tariff System (HTS) code basis. All data will be updated monthly and made available to the public on the Import Administration's Office of Textile and Apparel website - http://www.otexa.ita.doc.gov/.

Product coverage is not intended by the Department necessarily to be static. Changes in product coverage may occur in response to input received from interested parties, changes in the trade, or as the Department broadens its understanding of the composition and structure of the domestic textile and apparel industry. Further, as the Department's extends its knowledge of the domestic industry and the products it produces, as part of its monitoring, biannual evaluation and like product analysis, it intends to continue its interaction with stakeholders to allow for full comment and input. As part of this process, products may be added or removed from monitoring, as appropriate.

PRODUCTION TEMPLATES: Production templates will be developed on an as-needed basis, as merited by the Department's analysis of the monitored imports, and their impact on, and relation to, the domestic industry. In developing these templates, the Department intends to gather input from parties knowledgeable about the production process. Proxy countries, appropriate for the product being examined, will not be selected until that time.

BIANNUAL EVALUATION: The Department intends to conduct its formal evaluation of the information gathered under the monitoring program on a biannual basis. Interim reviews are not expected to be conducted unless warranted by unforeseen developments.

As explained above, public import data gathered by the Department as part of its monitoring program will be posted on the Import Administration website and updated monthly. Data will be reviewed at the 10-digit HTS level and shifts in product mix and seasonality will be considered when evaluating price and volume trends, as appropriate. In addition to analyzing import data as part of this review process, the Department will consider domestic industry information including production, employment and other indicators of industry health, to the extent relevant to the biannual evaluation process.

SELF-INITIATION: Any self-initiation of an antidumping investigation arising from this program will be fully consistent with U.S. law as set forth in the statute and the Department's regulations, and with the applicable WTO rules.

CRITICAL CIRCUMSTANCES: Any application of critical circumstances in the context of a self-initiated investigation will be fully consistent with U.S. law, and with the applicable WTO rules. Should the Department find critical circumstances, suspension of liquidation would apply to unliquidated entries of merchandise entered, or withdrawn from warehouse, for consumption on or after the later of: 1) 90 days before the date on which suspension of liquidation is first ordered; or 2) the date on which notice of the initiation of the investigation is published in the Federal Register (section 733(e)(2) of the Tariff Act of 1930, as amended).

NEW REPORTING REQUIREMENTS: There are no new paperwork or reporting requirements as a result of the Department's monitoring program. Furthermore, all responses to the Department's Federal Register notice requests for information, including this request, are strictly voluntary.

Dated: January 17, 2007.
David M. Spooner,
Assistant Secretary for Import Administration.

[FR Doc. E7-928 Filed 1-22-07; 8:45 am]

BILLING CODE 3510-DS-S